DEPARTMENT OF ENERGY

Federal Energy Regulatory Commission

[Project No. 2804-035]

Goose River Hydro, Inc.; Notice of Application Tendered for Filing With the Commission and Soliciting Additional Study Requests

Take notice that the following hydroelectric application has been filed with the Commission and is available for public inspection.

a. Type of Application: New minor license

b. Project No.: P-2804-035

c. Date filed: February 2, 2018

d. Applicant: Goose River Hydro, Inc.

e. Name of Project: Goose River Hydroelectric Project

f. Location: On the Goose River, near Belfast, Waldo County, Maine. No federal or tribal lands would be occupied by project works or located within the project boundary.

g. Filed Pursuant to: Federal Power Act 16 U.S.C. 791(a)-825(r).

h. Applicant Contact: Nicholas Cabral, Goose River Hydro Inc., 67 Swan Lake Ave., Belfast, ME 04095, (207)-604-4394, gooseriverhydro@gmail.com.

i. FERC Contact: Julia Kolberg, 888 1st St. NE, Washington, DC 20426, (202) 502-8261, Julia.kolberg@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 3, 2018.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2804-033.

m. The application is not ready for environmental analysis at this time.

n. The project consists of the following existing facilities:

Swan Lake Dam

(1) A 14-foot-high, 250-foot-long rock masonry gravity dam impounding Swan Lake with a surface area of approximately 1,364 acres at an elevation of 201 feet above sea level; (2) a concrete inlet structure; (3) three manually operated butterfly gates that regulate flow through the inlet structure; (4) two culverts the convey flow under Route 141; and (5) appurtenant facilities.

Mason's Dam

(1) A 15-foot-high, 86-foot-long rock masonry dam impounding a reservoir with a storage capacity of approximately 1,621 acre-feet at an elevation of 188 feet above sea level; (2) a concrete inlet structure; (3) a manually operated gate regulating flow from the inlet structure to the penstock; (4) a 350-foot-long steel penstock; (5) a 266-square-foot concrete powerhouse containing two Kaplan turbines and generating units with a licensed capacity of 75 kW; (6) a 300-foot-long, 12-kilovolt (kV) transmission line and (7) appurtenant facilities.

Kelley Dam

(1) A 15-foot-high, 135-foot-long masonry gravity dam impounding a reservoir with a storage capacity of approximately 200 acre-feet at an elevation of approximately 159 feet above sea level; and (2) three manually operated gates.

Mill Dam

(1) A 6-foot-tall, 70-foot-wide masonry dam impounding a reservoir with a storage capacity of approximately 7 acre-feet at an elevation of approximately 128 feet above sea level; (2) a concrete inlet structure; (3) a trash sluice with wooden stop logs; (4) a 3-foot-diameter, 110-foot-long plastic penstock; (5) a powerhouse containing a Francis-type turbine and generator unit with a licensed capacity of 94 kW; and (6) an approximately 100-foot-long, 12-kV transmission line.

CMP Dam

(1) A 21-foot-high, 231-foot-long buttress dam impounding a reservoir with a storage capacity of approximately 72 acre-feet at an elevation of approximately 109 feet above sea level; (2) a 5-foot-diameter, 1,200-foot-long steel penstock; (3) a 300-square-foot concrete and timber powerhouse with a Kaplan-type turbine and generator unit with a licensed capacity of 200 kW; and (4) an approximately 500-foot-long, 12-kV transmission line.

o. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary schedule. Revisions to the schedule will be made as appropriate.

Issue Deficiency Letter—March 2018

Issue Notice of Acceptance—July 2018

Issue Scoping Document for comments—August 2018

Comments on Scoping Document—October 2018

Issue notice of ready for environmental analysis—November 2018

Commission issues EA—April 2019

Comments on EA—May 2019

Dated: February 14, 2018.
Kimberly D. Bose,
Secretary.

[FR Doc. 2018-03556 Filed 2-21-18; 8:45 am]

BILLING CODE 6717-01-P